ENVIRONMENTAL PROTECTION AGENCY

[EPA-HQ-OPP-2017-0619; FRL-10016-62-OMS]

Agency Information Collection Activities; Renewal Request Submitted to OMB for Review and Approval; Comment Request; Pesticide Program Public Sector Collections (FIFRA Sections 18 & 24(c)) (Renewal)

AGENCY: Environmental Protection Agency (EPA).

ACTION: Notice.

SUMMARY: The Environmental Protection Agency (EPA) has submitted the following information collection request (ICR), Pesticide Program Public Sector Collections (FIFRA Sections 18 & 24(c)) (EPA ICR Number 2311.04 and OMB Control Number 2070-0182), to the Office of Management and Budget (OMB) for review and approval in accordance with the Paperwork Reduction Act. This is a proposed extension of ICR, which is currently approved through February 28, 2021. Public comments were previously requested via the Federal Register on August 17, 2020 during a 60-day comment period. This notice allows for an additional 30 days for public comments. A fuller description of the ICR is given below, including its estimated burden and cost to the public. An agency may not conduct or sponsor and a person is not required to respond to a collection of information unless it displays a currently valid OMB control number.

DATES: Comments must be received on or before February 10, 2021.

ADDRESSES: Submit your comments to EPA, referencing docket identification (ID) number EPA- HQ-OPP-2017-0619, online using http://www.regulations.gov.

EPA's policy is that all comments received will be included in the public docket without change including any personal information provided, unless the comment includes profanity, threats, information claimed to be Confidential Business Information (CBI), or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Carolyn Siu, Mission Support Division (7101M), Office of Program Support, Environmental Protection Agency, 1200 Pennsylvania Ave. NW, Washington, DC 20460-0001; telephone number: (703) 347-0159; email address: siu.carolyn@epa.gov.

SUPPLEMENTARY INFORMATION: Supporting documents, which explain in detail the information that the EPA will be collecting, are available in the public docket for this ICR. The docket can be viewed online at www.regulations.gov or in person at the EPA Docket Center, WJC West, Room 3334, 1301 Constitution Ave., NW, Washington, DC. The telephone number for the Docket Center is 202-566-1744. For additional information about EPA's public docket, visit http://www.epa.gov/dockets.

Abstract: This ICR covers the paperwork burden under the PRA that is associated with two types of pesticide registration requests made by States, U.S. Territories, or Federal agencies. Specifically, this ICR covers emergency exemption requests, which allow for an unregistered use of a pesticide, and State registrations of a pesticide use to meet a special local need (SLN). FIFRA section 18 authorizes EPA to grant emergency exemptions to States, U.S. Territories, and Federal agencies to allow an unregistered use of a pesticide for a limited time if EPA determines that emergency conditions exist. FIFRA Section 18 requests include unregistered pesticide use exemptions for specific agricultural, public health, quarantine and crisis purposes. FIFRA Section 24(c) authorizes any particular State to register additional uses of a federally registered pesticide for distribution and use within that state to meet a SLN.

Form Numbers: 8570-25 & 8570-4.

Respondents/Affected Entities: States and Federal government agencies and pesticide, fertilizer, and other agricultural chemical manufacturing.

Respondent's obligation to respond: Mandatory under FIFRA Sections 3 and 11.

Frequency of response: On Occasion.

Estimated total number of potential respondents: 283.

Estimated total burden: 25,753 hours (per year). Burden is defined at 5 CFR 1320.3(b).

Estimated total costs: $ 1,829,103 (per year), includes no annualized capital investment or maintenance and operational costs.

Changes in the estimates: There is no change in the number of hours in the total estimated respondent burden compared with that identified in the ICR currently approved by OMB.

Dated: December 11, 2020.
Courtney Kerwin,
Director, Regulatory Support Division.

[FR Doc. 2021-00249 Filed 1-8-21; 8:45 am]

BILLING CODE 6560-50-P